DEPARTMENT OF HOMELAND SECURITY

Federal Emergency Management Agency

44 CFR Part 67

[Docket No. FEMA-D-7616]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
NEW JERSEY
Bergen County
Musquapsink Brook | Approximately 2,600 feet upstream of confluence with Pascack Brook at Saddle River Road | *39 *241 | *38 *243 | Boroughs of Emerson, Westwood, Hillsdale, Woodcliff Lake, Paramus, Township of Washington.
Pascack Brook | Approximately 0.71 mile downstream of Brookside Avenue Approximately 1,300 feet from the upstream side of Magnolia Avenue | *25 204 | *26 *205 | Boroughs of Emerson, River Vale, Hillsdale, Woodcliff Lake, Park Ridge, Montvale, Harrington Park.
Musquasink Brook By-Pass | At the confluence of Musquapsink Brook Just downstream of Washington Lake Dam South | *59 *63 | *60 *68 | Township of Washington.
Tandy Brook | At the confluence with Pascask Brook Approximately 375 feet downstream of Saddlewood Drive | *62 *62 | *63 *63 | Borough of Hillsdale.
Westdale Brook | At the confluence with Pascack Brook Approximately 1,740 feet from upstream side of Harding Avenue | *57 *57 | *59 *59 | Borough of Westwood.
Borough of Emerson
Maps available for inspection at the Emerson Borough Hall, Municipal Place, Emerson, New Jersey.
Send comments to The Honorable Steve Setteducati, Mayor of the Borough of Emerson, Municipal Place, Emerson, New Jersey 07630.
Borough of Harrington Park
Maps available for inspection at the Harrington Park Municipal Center, 85 Harriot Avenue, Harrington Park, New Jersey.
Send comments to The Honorable Paul A. Hoelscher, Mayor of the Borough of Harrington Park, Municipal Center, 85 Harriot Avenue, Harrington Park, New Jersey 07640.
Borough of Hillsdale
Maps available for inspection at the Hillsdale Borough Hall, 380 Hillsdale Avenue, Hillsdale, New Jersey.
Send comments to Mr. Harold Karns, Borough of Hillsdale Administrator, 380 Hillsdale Avenue, Hillsdale, New Jersey 07642.
Borough of Montvale
Maps available for inspection at the Montvale Borough Hall, 1 Memorial Drive, Montvale, New Jersey.
Send comments to The Honorable George Zeller, Mayor of the Borough of Montvale, 1 Memorial Drive, Montvale, New Jersey 07645.
Borough of Paramus
Maps available for inspection at the Paramus Borough Hall, 1 Jockish Square, Paramus, New Jersey.
Send comments to The Honorable James Tedesco, III, Mayor of the Borough of Paramus, 1 Jockish Square, Paramus, New Jersey 07652.
Borough of Park Ridge
Maps available for inspection at the Park Ridge Borough Hall, 55 Park Avenue, Park Ridge, New Jersey.
Send comments to The Honorable Don Ruschman, Mayor of the Borough of Park Ridge, 55 Park Avenue, Park Ridge, New Jersey 07656.
Township of River Vale
Maps available for inspection at the River Vale Township Office, 406 River Vale Road, River Vale, New Jersey.
Send comments to The Honorable George Paschalis, Mayor of the Township of River Vale, 406 River Vale Road, River Vale, New Jersey 07675.
Township of Washington
Maps available for inspection at the Washington Township Office, 350 Hudson Avenue, Washington, New Jersey.
Send comments to The Honorable Rudolph J. Wenzel, Jr., Mayor of the Township of Washington, 350 Hudson Avenue, Washington, New Jersey 07676.
Borough of Westwood
Maps available for inspection at the Westwood Borough Hall, 101 Washington Avenue, Westwood, New Jersey.
Send comments to The Honorable Skip Kelly, Mayor of the Borough of Westwood, 101 Washington Avenue, Westwood, New Jersey 07675.
Borough of Woodcliff Lake
Maps available for inspection at the Woodcliff Lake Municipal Building, 188 Pascack Road, Woodcliff Lake, New Jersey.
Send comments to The Honorable Josephine C. Higgins, Mayor of the Borough of Woodcliff Lake, Municipal Building, 188 Pascack Road, Woodcliff Lake, New Jersey 07677.
NORTH CAROLINA
Brunswick County
Allen Creek | At the confluence with McKinzie Pond | None | •9 | Brunswick County
| Approximately 675 feet downstream of West Boiling Spring Road | None | •50 | (Unincorporated Areas), City of Boiling Spring Lakes.
Alligator Branch | At the confluence with Hood Creek | None | •19 | Brunswick County (Unincorporated Areas).
| Approximately 0.5 mile downstream of Interstate 74/76 | None | •60
Batarora Branch | At the confluence with Hood Creek | None | •31 | Brunswick County (Unincorporated Areas).
| Approximately 1,500 feet upstream of NC Highway 87 | None | •36
Batarora Branch Tributary | At the confluence with Batarora Branch | None | •36 | Brunswick County (Unincorporated Areas).
| Approximately 1.3 miles upstream of the confluence with Batarora Branch | None | •59
Beaverdam Creek (near Henrytown) | At the confluence with Town Creek | None | •12 | Brunswick County (Unincorporated Areas).
| Approximately 1.5 miles upstream of Town Creek Road Northeast | None | •66
Beaverdam Creek (near Southport) | Approximately 1.0 mile upstream of the confluence with Intracoastal Waterway | None | •11 | Brunswick County (Unincorporated Areas), Town of St. James
| At the confluence with Beaverdam Swamp | None | •12
Beaverdam Swamp | At the confluence with Beaverdam Creek (near Southport) | None | •12 | Brunswick County (Unincorporated Areas), Town of St. James.
| Approximately 1,650 feet upstream of Committee Drive Southeast | None | •46
Bell Swamp | At the confluence with Mill Creek (near Winnabow) | None | •10 | Brunswick County (Unincorporated Areas).
| Approximately 2.0 miles upstream of Cherrytree Road Northeast | None | •52
Bishop Branch | At the confluence with Morgan Creek | None | •9 | Brunswick County (Unincorporated Areas), Town of Leland.
| Approximately 0.3 mile upstream of Pinecliff Drive Northeast | None | •64
Cape Fear River | Approximately 1.1 miles downstream of the intersection of Pender, New Hanover, and Brunswick County boundary | None | •7 | Brunswick County (Unincorporated Areas), Town of Navassa.
| At the Brunswick/Columbus County boundary | None | •14
Cherry Tree Swamp | At the confluence with Bell Swamp | None | •27 | Brunswick County (Unincorporated Areas).
| Approximately 1.4 miles upstream of Cherrytree Road Northeast | None | •62
Cottage Creek | Approximately 1,000 feet downstream of 9th Street | None | •10 | Brunswick County (Unincorporated Areas), City of Southport.
| Approximately 550 feet upstream of 11th Street | None | •20
Daw's Creek | Approximately 850 feet upstream of the confluence with Town Creek | None | •9 | Brunswick County (Unincorporated Areas).
| Approximately 0.9 mile upstream of Daw's Creek Road | None | •16
Dutchman Creek (north of CP&L Canal) | At the confluence with CP&L Canal | None | •10 | Brunswick County (Unincorporated Areas), City of Southport.
| Approximately 1.9 miles upstream of 211 | None | •32
Gapway Creek County boundary | At the Brunswick/Columbus | None | •45 | Brunswick County (Unincorporated Areas).
| Approximately 2.7 miles upstream of the Brunswick/Columbus County line | None | •64
Governors Creek | At the confluence with Walden Creek | None | •8 | Brunswick County (Unincorporated Areas).
| Approximately 2.3 miles upstream of unnamed road | None | •8
Harris Swamp | At the confluence with Mill Creek (near Winnabow) | None | •11 | Brunswick County (Unincorporated Areas).
| Approximately 2.5 miles upstream of NC Highway 87 | None | •27
Hood Creek | At the confluence with Cape Fear River | None | •10 | Brunswick County (Unincorporated Areas).
| Approximately 1.9 miles upstream of NC Highway 87 | None | •61
Hood Creek Tributary | At the confluence with Hood Creek | None | •29 | Brunswick County (Unincorporated Areas).
| Approximately 300 feet upstream of Malmo Lake Road Northeast | None | •55
Jackeys Creek | Approximately 0.3 mile downstream of NC 17 | •13 | •10 | Brunswick County (Unincorporated Areas), Town of Leland.
| Just upstream of abandoned railroad | •18 | •17
Jackeys Creek Tributary | At the confluence with Jackeys Creek | •18 | •16 | Brunswick County (Unincorporated Areas), Town of Leland.
| Approximately 425 feet upstream of Lanvale Road Northeast | None | •39
Lewis Branch | At the confluence with Lewis Swamp | None | •20 | Brunswick County (Unincorporated Areas).
| Approximately 1.6 miles upstream of Lewis Swamp Road Northeast | None | •62 |
Lewis Swamp | At the confluence with Town Creek | None | •14 | Brunswick County (Unincorporated Areas).
| Approximately 2.7 miles upstream of Beetree Farm Trail | None | •65 |
Lewis Swamp Tributary | At the confluence with Lewis Swamp | None | •32 | Brunswick County (Unincorporated Areas).
| Approximately 1.5 miles upstream of the confluence with Lewis Swamp | None | •52 |
Liliput Creek | Approximately 1,450 feet of State Route 133 | None | •9 | Brunswick County (Unincorporated Areas).
| At the confluence with Allen Creek | None | •9 |
Little Mallory Creek | Approximately 100 feet State Route 133 | None | •9 | Brunswick County (Unincorporated Areas).
| Approximately 250 feet upstream of Wire Road | None | •21 |
Livingston Creek | Approximately 1.2 miles downstream of Columbus/Brunswick border | None | •52 | Brunswick County (Unincorporated Areas).
| At Columbus/Brunswick County border | None | •59 |
McKinzie Creek | At the confluence with Allen Creek/McKinzie Pond | None | •9 | Brunswick County (Unincorporated Areas).
| Approximately 570 feet upstream of Funston Road Southeast | None | •25 |
Mill Creek (near Leland) | Approximately 0.8 mile upstream of the confluence with Sturgeon Creek | None | •7 | Brunswick County (Unincorporated Areas), Town of Leland, Town of Navassa.
| Approximately 250 feet upstream of Post Office Road Northwest | None | •9
Mill Creek (near Winnabow) | At the confluence with Rice Creek | None | •10 | Brunswick County (Unincorporated Areas).
| Approximately 1.7 miles upstream of Old Mill Creek Road Southeast | None | •24 |
Morgan Creek | Approximately 0.3 mile of the confluence with Town Creek | None | •9 | Brunswick County (Unincorporated Areas), Town of Leland.
| Approximately 0.8 miles upstream of Hewitt-Burton Road Southeast | None | •21 |
Nancy's Creek | At the confluence with Walden Creek | None | •8 | Brunswick County (Unincorporated Areas).
| Approximately 0.6 mile upstream of railroad crossing | None | •8
Nigis Creek | At the confluence with Walden Creek | None | •8 | Brunswick County (Unincorporated Areas).
| Approximately 2.0 miles upstream of unnamed road | None | •26 |
Orton Creek | Approximately 50 feet downstream of Plantation Road Southeast | None | •9 | Brunswick County (Unincorporated Areas).
| Approximately 1.5 miles upstream of NC 87 | None | •44 |
Prices Creek | At East Moore Street | None | •9 | Brunswick County (Unincorporated Areas), City of Southport.
| Approximately 1,750 feet upstream of East Leonard Street | None | •13, |
Rattlesnake Branch | At the confluence with Hood Creek | None | •14 | Brunswick County (Unincorporated Areas), City of Northwest.
| Approximately 250 feet upstream of Saw Mill Road | None | •36 |
Rice Creek | Approximately 1.9 miles downstream of Governors Road Southeast | None | •9 | Brunswick County (Unincorporated Areas).
| At the confluence with Mill Creek (near Winnabow) | None | •10 |
Russells Creek | At the confluence with Town Creek | None | •9 | Brunswick County (Unincorporated Areas).
| Approximately 0.3 mile upstream of Irvine Trail Northeast | None | •47 |
Sand Hill Creek | Approximately 0.8 mile upstream of the confluence with Cape Fear River | None | •9 | Brunswick County (Unincorporated Areas).
| Approximately 800 feet upstream of State Route 133 | None | •12 |
Town Creek | Approximately 600 feet downstream of the confluence with Russells Creek | None | •9 | Brunswick County (Unincorporated Areas).
| Approximately 2.6 miles upstream of Town Creek Road Northeast | None | •63 |
Turkey Branch | At the confluence with Town Creek | None | •15 | Brunswick County (Unincorporated Areas).
| Approximately 0.5 mile upstream of Patrick Drive Northeast | None | •61
Walden Creek | Approximately 0.4 mile of the confluence with Governors Creek | None | •9 | Brunswick County downstream (Unincorporated Areas).
| Approximately 0.6 mile upstream of the confluence with White Spring Creek | None | •8 |
White Spring Creek | At the confluence with Walden Creek | None | •8 | Brunswick County (Unincorporated Areas).
| Approximately 100 feet downstream of railroad | None | •8 |
Atlantic Ocean | Approximately 500 feet south of the intersection of Southeast 52nd Street and East Pelican Drive in the Town of Oak Island | •22 | •21 | Brunswick County (Unincorporated Areas), Town of Caswell Beach, Village of Bald Head Island, Town of Oak Island
| Along Bay Creek at the confluence with Deer Creek | •11 | •14 |
Village of Bald Head Island
Maps available for inspection at the Bald Head Island Town Hall, 106 Lighthouse Wynd, Bald Head Island, North Carolina.
Send comments to The Honorable Larry Lammert, Mayor of the Village of Bald Head Island, P.O. Box 3009, Bald Head Island, North Carolina 28461-3009.
City of Boiling Spring Lakes
Maps available for inspection at the Boiling Spring Lakes City Hall, 9 Boiling Spring Road, Boiling Spring Lakes, North Carolina.
Send comments to The Honorable Joan Kinney, Mayor of the City of Boiling Spring Lakes, 9 East Boiling Spring Road, Boiling Spring Lakes, North Carolina 28461.
Brunswick County (Unincorporated Areas)
Maps available for inspection at the Brunswick County Planning Department, 75 Courthouse Drive Northeast, Building I, Bolivia, North Carolina.
Send comments to Mr. Marty Lawing, Brunswick County Manager, P.O. Box 249, Bolivia, North Carolina 28422-0249.
Town of Caswell Beach
Maps available for inspection at the Caswell Beach Town Hall, 1100 Caswell Beach Road, Caswell Beach, North Carolina.
Send comments to The Honorable Harry Simmons, Jr., Mayor of the Town of Caswell Beach, 1100 Caswell Beach Road, Caswell Beach, North Carolina 28465.
Town of Leland
Maps available for inspection at the Leland Town Hall, 102 Town Hall Drive, Leland, North Carolina.
Send comments to The Honorable Franky Thomas, Mayor of the Town of Leland, 102 Town Hall Drive, Leland, North Carolina 28451.
Town of Navassa
Maps available for inspection at the Navassa Town Hall, 334 Main Street, Navassa, North Carolina.
Send comments to The Honorable Eulis Willis, Mayor of the Town of Navassa, 334 Main Street, Navassa, North Carolina 28451.
City of Northwest
Maps available for inspection at the Northwest City Hall, 4889 Vernon Road, Leland, North Carolina.
Send comments to The Honorable James Knox, Mayor of the City of Northwest, P.O. Box 1509, Leland, North Carolina 28451.
Town of Oak Island
Maps available for inspection at the Oak Island Town Hall, 4601 East Oak Island Drive, Oak Island, North Carolina.
Send comments to The Honorable Helen Cashwell, Mayor of the Town of Oak Island, 4601 East Oak Island Drive, Oak Island, North Carolina 28465.
Town of St. James
Maps available for inspection at the St. James Town Hall, 3628 St. James Drive, Southport, North Carolina.
Send comments to The Honorable Leonard B. Harmon, Mayor of the Town of St. James, 3628 St. James Drive, Southport, North Carolina 28461.
City of Southport
Maps available for inspection at the Southport Town Hall, 201 East Moore Street, Southport, North Carolina.
Send comments to The Honorable Norman Holden, Mayor of the City of Southport, 201 East Moore Street, Southport, North Carolina 28461.

(Catalog of Federal Domestic Assistance No. 83.100, “Flood Insurance.”)

Dated: March 29, 2005.
David I. Maurstad,
Acting Director, Mitigation Division, Emergency Preparedness and Response Directorate.

[FR Doc. 05-6543 Filed 4-1-05; 8:45 am]

BILLING CODE 9110-12-P